NATIONAL SCIENCE FOUNDATION

Sunshine Act Meeting

The National Science Board's Awards and Facilities Committee (A&F) hereby gives notice of the scheduling of a meeting for the transaction of National Science Board business pursuant to the National Science Foundation Act and the Government in the Sunshine Act.

TIME AND DATE: Monday, August 14, 2023, from 2:30:-4:30 p.m. EDT.

PLACE: This meeting will be held virtually and in person at NSF headquarters, 2145 Eisenhower Ave., Alexandria, VA 22314, and by videoconference.

STATUS: Closed.

MATTERS TO BE CONSIDERED: The agenda of the meeting is: Committee Chair's Opening remarks regarding the agenda; Update by the Chief Officer for Research Facilities; Discussion and vote on advice related to the renewal of Laser Interferometer Gravitational-Wave Observatory Operations and Management Award; Discussion and vote on advice related to the amended Arecibo Record of Decision.

CONTACT PERSON FOR MORE INFORMATION: Point of contact for this meeting is: Michelle McCrackin, mmccrack@nsf.gov, (703) 292-7000. Meeting information and updates may be found at www.nsf.gov/nsb.

Christopher Blair,
Executive Assistant to the National Science Board Office.

[FR Doc. 2023-17357 Filed 8-9-23; 11:15 am]

BILLING CODE 7555-01-P